DEPARTMENT OF HOMELAND SECURITY

Coast Guard

[USCG-2006-24105]

Chemical Transportation Advisory Committee

AGENCY: Coast Guard, DHS.

ACTION: Notice of open teleconference meeting.

SUMMARY: This notice announces a teleconference of the Chemical Transportation Advisory Committee (CTAC). The purpose of the teleconference is for CTAC to approve comments to be submitted on the Coast Guard's Notification of Arrival in U.S. Ports and Certain Dangerous Cargo interim rule. Less than 15 days notice of this teleconference is given in order to complete timely input on critical issues being studied by the Coast Guard before the end of the interim rule's comment period on March 16, 2006.

DATES: The CTAC teleconference will take place on Monday, March 13, 2006, from 10 a.m. to 12 noon, EST. The teleconference may close early if all business is finished. Written material and requests to make oral presentations should reach the Coast Guard on or before March 10, 2006. Requests to have a copy of your material distributed to each member of the Committee should reach the Coast Guard on or before March 10, 2006.

ADDRESSES: Members of the public may participate in this teleconference by dialing 1-202-366-3920, passcode: 5543. Public participation is welcomed; however, the number of teleconference lines is limited and available on a first come, first-served basis. Members of the public may also participate by coming to Room 3319, U.S. Coast Guard Headquarters, 2100 Second Street, SW., Washington, DC 20593-0001. We request that members of the public who plan to attend this meeting, notify LT Barker or LT Stockwell at 202-267-1217 so proper security arrangements may be made. Send written material and requests to make oral presentations to Commander Robert J. Hennessy, Executive Director of CTAC, Commandant (G-PSO-3), U.S. Coast Guard Headquarters, 2100 Second Street SW., Washington, DC 20593-0001 or e-mail: CTAC@comdt.uscg.mil. This notice is available on the Internet at http://dms.dot.gov.

FOR FURTHER INFORMATION CONTACT: Commander Robert J. Hennessy, Executive Director of CTAC, or Ms. Sara Ju, Assistant to the Executive Director, telephone 202-267-1217, fax 202-267-4570.

SUPPLEMENTARY INFORMATION: Notice of these meetings is given under the Federal Advisory Committee Act, 5 U.S.C. App. 2. The purpose of the teleconference is for CTAC to approve comments to be submitted on the Coast Guard's Notification of Arrival in U.S. Ports and Certain Dangerous Cargo interim rule (70 FR 74663, December 16, 2005). Less than 15 days notice of this teleconference is given in order to complete timely input on critical issues being studied by the Coast Guard before the end of the interim rule's comment period on March 16, 2006.

Agenda for Teleconference

(1) Introductions and opening remarks.

(2) Discussion and vote on comments drafted by Hazardous Cargo Transportation Security Subcommittee for submission to the U.S. Coast Guard concerning the Notification of Arrival in U.S. Ports and Certain Dangerous Cargo Federal Register document (70 FR 74663, December 16, 2005).

(3) Discussion and vote on Best Practices developed by the Outreach Subcommittee concerning the vapor emissions from chemical barges.

(4) Public comment period.

Procedural

The teleconference is open to the public. Please note that the teleconference may close early if all business is finished. The Chair of CTAC shall conduct the teleconference in a way that will, in their judgment, facilitate the orderly conduct of business. Members of the public will be heard during the public comment period. The Chair will make every effort to hear the views of all interested parties. Written comments must be submitted to the Executive Director (see ADDRESSES) on or before March 10, 2006.

The teleconference will be recorded and a summary will be available for public review upon request approximately 30 days following the teleconference meeting.

Dated: March 3, 2006.
Howard L. Hime,
Acting Director of Standards, Assistant Commandant for Prevention.

[FR Doc. 06-2259 Filed 3-6-06; 4:25 pm]

BILLING CODE 4910-15-P